DEPARTMENT OF COMMERCE

Bureau of Industry and Security

Emerging Technology and Research Advisory Committee; Notice of Open Meeting

The Emerging Technology and Research Advisory Committee (ETRAC) will meet on December 19, 2013, 8:30 a.m., Room 3884, at the Herbert C. Hoover Building, 14th Street between Pennsylvania and Constitution Avenues NW., Washington, DC. The Committee advises the Office of the Assistant Secretary for Export Administration on emerging technology and research activities, including those related to deemed exports.

Agenda

Thursday, December 19

Open Session

1. Opening Remarks and Comments

2. Discussion on status of the Export Control Reform Initiative

3. Emerging Technology Issues

—Harmonization of definitions: ITAR and EAR

—Massive On-Line Instruction

—OY521 and Emerging Technology

—Exceptions: GOV and Technology Software Unrestricted (TSU)

4. Guest Speaker—National Academies

5. Guest Speaker—National Institutes of Health—Export Controls and Medical Research

6. Public Comments, Suggestions

The open session will be accessible via teleconference to 20 participants on a first come, first serve basis. To the conference, submit inquiries to Ms. Yvette Springer at Yvette.Springer@bis.doc.gov, no later than December 12, 2013.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, call Yvette Springer at (202) 482-2813.

Dated: November 20, 2013.
Yvette Springer,
Committee Liaison Officer.

[FR Doc. 2013-28400 Filed 11-26-13; 8:45 am]

BILLING CODE 3510-JT-P